DEPARTMENT OF DEFENSE

Defense Acquisition Regulations System

[Docket Number DARS-2020-0012; OMB Control Number 0704-0232]

Information Collection Requirement; Defense Federal Acquisition Regulation Supplement, Contract Pricing

AGENCY: Defense Acquisition Regulations System, Department of Defense (DoD).

ACTION: Notice and request for comments regarding a proposed extension of an approved information collection requirement.

SUMMARY: In compliance with Section 3506(c)(2)(A) of the Paperwork Reduction Act of 1995, DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

DATES: DoD will consider all comments received by May 12, 2020.

ADDRESSES: You may submit comments, identified by OMB Control Number 0704-0232, using any of the following methods:

○ Federal eRulemaking Portal: http://www.regulations.gov. Follow the instructions for submitting comments.

○ Email: osd.dfars@mail.mil. Include OMB Control Number 0704-0232 in the subject line of the message.

○ Fax: 571-372-6094.

○ Mail: Defense Acquisition Regulations System, Attn: Ms. Kerryn Loan, OUSD(A&S)DPC/DARS, Room 3B941, 3060 Defense Pentagon, Washington, DC 20301-3060.

Comments received generally will be posted without change to http://www.regulations.gov, including any personal information provided.

FOR FURTHER INFORMATION CONTACT: Ms. Kerryn Loan, telephone 571-372-6119.

SUPPLEMENTARY INFORMATION: Title and OMB Number: Defense Federal Acquisition Regulation Supplement (DFARS) Subpart 215.4, Contract Pricing, and related clause at DFARS 252.215; OMB Control Number 0704-0232.

Affected Public: Businesses or other for-profit and not-for-profit institutions.

Number of Respondents: 427.

Responses per Respondent: 1 (approximately).

Annual Responses: 427.

Average Burden per Response: 40.7 (approximately).

Annual Burden Hours: 17,400.

Reporting Frequency: On occasion.

Needs and Uses: The clause at DFARS 252.215-7002, Cost Estimating System Requirements, requires that certain large business contractors—

• Establish an acceptable cost estimating system and disclose the estimating system to the administrative contracting officer (ACO) in writing;

• Maintain the estimating system and disclose significant changes in the system to the ACO on a timely basis; and

• Respond in writing to written reports from the Government that identify deficiencies in the estimating system.

DoD contracting officers use this information to determine if the contractor has an adequate system for generating cost estimates, which forecasts costs based on appropriate source information available at the time, and has the ability to monitor the correction of significant deficiencies. The need for information collection decreases as contractor estimating systems improve and gain contracting officer approval.

Jennifer Lee Hawes,
Regulatory Control Officer, Defense Acquisition Regulations System.

[FR Doc. 2020-05212 Filed 3-12-20; 8:45 am]

BILLING CODE 5001-06-P